Memorandum of September 2, 2020

Delegation of Authority To Submit to the Congress the Notifications and Explanations Specified in the Resolution of Advice and Consent to Ratification of the Agreement Between the United States of America and the International Atomic Energy Agency for the Application of Safeguards in the United States of America

Memorandum for the Secretary of State

By the authority vested in me as President by the Constitution and the laws of the United States of America, including section 301 of title 3, United States Code, I hereby delegate to the Secretary of State the authority to provide to the Congress the notifications and explanations specified in section 1 of the July 2, 1980, Senate's Resolution of Advice and Consent to Ratification of the Agreement between the United States of America and the International Atomic Energy Agency for the Application of Safeguards in the United States of America, with attached Protocol, signed at Vienna on November 18, 1977.

You are authorized and directed to publish this memorandum in the Federal Register.

THE WHITE HOUSE,

Washington, September 2, 2020

[FR Doc. 2020-21388

Filed 9-24-20; 8:45 am]

Billing code 4710-10-P